SAINT LAWRENCE SEAWAY DEVELOPMENT CORPORATION

33 CFR Part 401

[Docket No. SLSDC-2013-0001; 2135-AA31]

Seaway Regulations and Rules: Periodic Update, Various Categories

AGENCY: Saint Lawrence Seaway Development Corporation, DOT.

ACTION: Notice of Proposed Rulemaking.

SUMMARY: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is amending the joint regulations by updating the Seaway Regulations and Rules in various categories. The proposed changes will update the following sections of the Regulations and Rules: Condition of Vessels; Seaway Navigation; Dangerous Cargo; and, Information and Reports. These proposed amendments are necessary to take account of updated procedures and will enhance the safety of transits through the Seaway. Several of the proposed amendments are merely editorial or for clarification of existing requirements.

DATES: Any party wishing to present views on the proposed amendment may file comments with the Corporation on or before March 8, 2013.

ADDRESSES: You may submit comments identified by Docket Number SLSDC 2013-0001 by any of the following methods:

• Web Site: http://www.Regulations.gov . Follow the online instructions for submitting comments/submissions.

• Fax: 1-202-493-2251.

• Mail: Docket Management Facility; U.S. Department of Transportation, 1200 New Jersey Avenue SE., West Building Ground Floor, Room W12-140, Washington, DC 20590-001.

• Hand Delivery: Documents may be submitted by hand delivery or courier to West Building Ground Floor, Room W12-140, 1200 New Jersey Avenue, SE., Washington, DC 20590-001, between 9 a.m. and 5 p.m., Monday through Friday, except Federal Holidays.

Instructions: All submissions must include the agency name and docket number or Regulatory Identification Number (RIN) for this rulemaking. Note that all comments received will be posted without change at http://www.Regulations.gov including any personal information provided. Please see the Privacy Act heading under Regulatory Notices.

Docket: For access to the docket to read background documents or comments received, go to http://www.Regulations.gov; or in person at the Docket Management Facility; U.S. Department of Transportation, 1200 New Jersey Avenue SE., West Building Ground Floor, Room W12-140, Washington, DC 20590-001, between 9 a.m. and 5 p.m., Monday through Friday, except Federal Holidays.

FOR FURTHER INFORMATION CONTACT: Carrie Mann Lavigne, Chief Counsel, Saint Lawrence Seaway Development Corporation, 180 Andrews Street, Massena, New York 13662; 315/764-3200.

SUPPLEMENTARY INFORMATION: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is proposing to amend the joint regulations by updating the Regulations and Rules in various categories. The proposed changes will update the following sections of the Regulations and Rules: Condition of Vessels; Seaway Navigation; Dangerous Cargo; and, Information and Reports. These updates are necessary to take account of updated procedures which will enhance the safety of transits through the Seaway. Many of these proposed changes are to clarify existing requirements in the regulations. Where new requirements or regulations are being proposed, an explanation for such a change is provided below.

Regulatory Notices: Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.Regulations.gov.

The SLSDC is proposing to amend two sections of the Condition of Vessels portion of the joint Seaway regulations. Under section 401.10, “Mooring lines”, the SLSDC is proposing to provide flexibility to vessels by allowing the use of soft lines with a diameter not greater than 64 mm. For safety purposes in section 401.14, “Anchor marking buoys”, the SLSDC is amending the rules to require vessels to deploy an anchor marking buoy when dropping anchor in the Seaway.

In the Seaway Navigation section the Seaway Corporations propose amending their joint rules in section 401.49, “Dropping anchor or tying to a canal”, to require every anchor to be suitably rigged for immediate release, holding, and efficient retrieval. Currently, some tug and barge combinations are not equipped with a windlass or other means to retrieve an anchor and therefore must retrieve the anchor using `block and tackle” arrangements, which are not suitable for anchor retrieval.

In the Dangerous Cargo section, the rules would be amended to require that before any hot work, which is defined as any work that uses flame or than can produce a source of ignition, cutting or welding, can be carried out on any vessels at SLSMC approach walls or wharfs, a written request must be sent to the SLSMC. In addition, the rules propose special requirements for tankers performing hot work. Such vessels must be gas free or have its tanks inerted in order to obtain clearance from the SLSMC Traffic Control Center.

In the Information and Reports section, a change to section 401.79, “Advance notice of arrival, vessels requiring inspection” is being proposed. The amendments would require tug and barge combinations not on the “Seaway Approved Tow” list to be inspected prior to every transit of the Seaway unless they are provided with a valid Inspection Report for a round trip transit.

The other changes to the joint regulations are merely editorial or to clarify existing requirements.

Regulatory Evaluation

This proposed regulation involves a foreign affairs function of the United States and therefore Executive Order 12866 does not apply and evaluation under the Department of Transportation's Regulatory Policies and Procedures is not required.

Regulatory Flexibility Act Determination

I certify that this proposed regulation will not have a significant economic impact on a substantial number of small entities. The St. Lawrence Seaway Regulations and Rules primarily relate to commercial users of the Seaway, the vast majority of whom are foreign vessel operators. Therefore, any resulting costs will be borne mostly by foreign vessels.

Environmental Impact

This proposed regulation does not require an environmental impact statement under the National Environmental Policy Act (49 U.S.C. 4321, et seq.) because it is not a major federal action significantly affecting the quality of the human environment.

Federalism

The Corporation has analyzed this proposed rule under the principles and criteria in Executive Order 13132, dated August 4, 1999, and has determined that this proposal does not have sufficient federalism implications to warrant a Federalism Assessment.

Unfunded Mandates

The Corporation has analyzed this proposed rule under Title II of the Unfunded Mandates Reform Act of 1995 (Pub. L. 104-4, 109 Stat. 48) and determined that it does not impose unfunded mandates on State, local, and tribal governments and the private sector requiring a written statement of economic and regulatory alternatives.

Paperwork Reduction Act

This proposed regulation has been analyzed under the Paperwork Reduction Act of 1995 and does not contain new or modified information collection requirements subject to the Office of Management and Budget review.

List of Subjects in 33 CFR Part 401

Hazardous materials transportation, Navigation (water), Penalties, Radio, Reporting and recordkeeping requirements, Vessels, Waterways.

Accordingly, the Saint Lawrence Seaway Development Corporation proposes to amend 33 CFR part 401, Regulations and Rules, as follows:

PART 401—SEAWAY REGULATIONS AND RULES

Subpart A—Regulations

1. The authority citation for subpart A of part 401 continues to read as follows:

Authority: 33 U.S.C. 983(a) and 984(a)(4), as amended; 49 CFR 1.52, unless otherwise noted.

2. In § 401.10, revise paragraph (a)(2); and add a new paragraph (e) to read as follows:

§ 401.10 Mooring lines.

(a) * * *

(2) Have a diameter not greater than 28 mm for wire line and not greater than 64 mm for approved synthetic lines;

* * * * *

(e) Hand held synthetic lines if permitted by the Manager or Corporation shall meet the criteria in paragraph (a) and shall have a minimum length of not less than 65 meters.

* * * * *

3. Revise § 401.14 to read as follows:

§ 401.14 Anchor marking buoys.

(a) A highly visible anchor marking buoy of a type approved by the Manager and the Corporation, fitted with 22 m of suitable line, shall be secured directly to each anchor so that the buoy will mark the location of the anchor when the anchor is dropped.

(b) Every vessel shall deploy the anchor marking buoy when dropping an anchor in Seaway waters.

4. In § 401.28, revise paragraph (d) to read as follows:

§ 401.28 Speed limits.

* * * * *

(d) Notwithstanding the above speed limits, every vessel approaching a free standing lift bridge shall proceed at a speed so that it will not pass the Limit of Approach sign should the raising of the bridge be delayed.

5. Revise § 401.29 to read as follows:

§ 401.29. Maximum draft.

(a) Notwithstanding any provision herein, the loading of cargo, draft and speed of a vessel in transit shall be controlled by the master, who shall take into account the vessel's individual characteristics and its tendency to list or squat, so as to avoid striking bottom.¹

¹ The main channels between the Port of Montreal and Lake Erie have a controlling depth of 8.23m.

(b) The draft of a vessel shall not, in any case, exceed 79.2 dm or the maximum permissible draft designated in a Seaway Notice by the Manager and the Corporation for the part of the Seaway in which a vessel is passing.

(c) Any vessel equipped with an operational Draft Information System (DIS) verified by a member of the International Association of Classification Societies (IACS) as compliant with the Implementation Specifications found at http://www.greatlakes-seaway.com and having onboard:

(1) An operational AIS with accuracy=1 (DGPS); and

(2) Up-to-date electronic navigational charts; and

(3) Up-to-date charts containing high-resolution bathymetric data, and

(4) The DIS Display shall be located as close to the primary conning position and be visible and legible; and

(5) A pilot plug, if using a portable DIS; will be permitted, when using the DIS, subject to paragraph (a) of this section, to increase their draft by no more than 7 cm above the maximum permissible draft prescribed under paragraph (b) of this section in effect at the time.

(d) Verification document of the DIS must be kept on board the vessel at all times and made available for inspection.

(e) A company letter attesting to officer training on use of the DIS must be kept on board and made available for inspection.

(f) Any vessel intending to use the DIS must notify the Manager or the Corporation in writing at least 24-hours prior to commencement of its initial transit in the System with the DIS.

(g) Any vessel intending to use the DIS to transit at a draft greater than the maximum permissible draft prescribed under paragraph (b) of this section in effect at the time, for subsequent transits must fax a completed confirmation checklist found at www.greatlakes-seaway.com to the Manager or the Corporation prior to its transit.

(h) If for any reason the DIS or AIS becomes inoperable, malfunctions, or is not used while the vessel is transiting at a draft greater than the maximum permissible draft prescribed under paragraph (b) of this section in effect at the time, the vessel must notify the Manager or the Corporation immediately.

6. Revise § 401.49 to read as follows:

§ 401.49. Dropping anchor or tying to canal bank.

Except in an emergency, no vessel shall drop anchor in any canal or tie-up to any canal bank unless authorized to do so by the traffic controller. Every anchor shall be suitably rigged for immediate release, holding and efficient retrieval.

7. Revise § 401.73 to read as follows:

§ 401.73 Cleaning tanks—hazardous cargo vessels.

(a) Cleaning and gas freeing of tanks shall not take place:

(1) In a canal or a lock;

(2) In an area that is not clear of other vessels or structures; and

(3) Before gas freeing and tank cleaning has been reported to the nearest Seaway station.

(b) Hot work permission. Before any hot work, defined as any work that uses flame or that can produce a source of ignition, cutting or welding, is carried out by any vessel on any designated St. Lawrence Seaway Management Corporation (SLSMC) approach walls or wharfs, a written request must be sent to the SLSMC, preferably 24 hours prior to the vessel's arrival on SLSMC approach walls or wharfs. The hot work shall not commence until approval is obtained from an SLSMC Traffic Control Center.

(c) Special Requirements for Tankers Performing Hot Work. Prior to arriving at any SLSMC designated approach wall or wharf, a tanker must be gas free or have tanks inerted. The gas-free certificate must be sent to the SLSMC Traffic Control Center in order to obtain clearance for the vessel to commence hot work.

10. In § 401.79 revise paragraph (b)(4) to read as follows:

§ 401.79 Advance notice of arrival, vessels requiring inspection.

* * * * *

(b) * * *

(4) Tug/barge combinations not on the “Seaway Approved Tow” list are subject to Seaway inspection prior to every transit of the Seaway unless provided with a valid Inspection Report for a round trip transit.

Issued at Washington, DC, on January 31, 2013.
Saint Lawrence Seaway Development Corporation.
Craig H. Middlebrook,
Deputy Administrator.

[FR Doc. 2013-02601 Filed 2-5-13; 8:45 am]

BILLING CODE 4910-61-P